DEPARTMENT OF LABOR

Employment and Training Administration

[TA-W-38,576]

Northwest Alloys, Inc., Addy, Washington; Notice of Termination of Investigation

Pursuant to Section 221 of the Trade Act of 1974, an investigation was initiated on January 22, 2001, in response to a petition filed on behalf of workers at Northwest Alloys, Inc., Addy, Washington.

The company official submitting the petition has requested that the petition be withdrawn. Consequently, further investigation in this case would serve no purpose, and the investigation has been terminated.

Signed in Washington, D.C. this 30th day of January, 2001.
Linda G. Poole,
Certifying Officer, Division of Trade Adjustment Assistance.

[FR Doc. 01-5083 Filed 3-1-01; 8:45 am]

BILLING CODE 4510-30-M